INTERNATIONAL TRADE COMMISSION

[Investigation Nos. 731-TA-678-679 and 681-682 (Fourth Review)]

Stainless Steel Bar From Brazil, India, Japan, and Spain; Notice of Commission Determination To Conduct Full Five-Year Reviews

AGENCY: United States International Trade Commission.

ACTION: Notice.

SUMMARY: The Commission hereby gives notice that it will proceed with full reviews pursuant to the Tariff Act of 1930 to determine whether revocation of the antidumping duty orders on stainless steel bar from Brazil, India, Japan, and Spain would be likely to lead to continuation or recurrence of material injury within a reasonably foreseeable time. A schedule for the reviews will be established and announced at a later date.

DATES: October 6, 2017.

FOR FURTHER INFORMATION CONTACT: Amanda Lawrence (202-205-3185), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

For further information concerning the conduct of these reviews and rules of general application, consult the Commission's Rules of Practice and Procedure, part 201, subparts A through E (19 CFR part 201), and part 207, subparts A, D, E, and F (19 CFR part 207).

SUPPLEMENTARY INFORMATION: On October 6, 2017, the Commission determined that it should proceed to full reviews in the subject five-year reviews pursuant to section 751(c) of the Tariff Act of 1930 (19 U.S.C. 1675(c)). The Commission found that the domestic parties' group response to its notice of institution was adequate and that the respondent interested parties' group responses to its notice of institution for the reviews on subject imports from Japan and Spain were adequate. The Commission found that the respondent interested parties' group responses to its notice of institution for the reviews on subject imports from Brazil and India were inadequate. However, the Commission determined to conduct full reviews concerning the orders on stainless steel bar from Brazil and India to promote administrative efficiency in light of its decision to conduct full reviews of the orders on stainless steel bar from Japan and Spain. A record of the Commissioners' votes, the Commission's statement on adequacy, and any individual Commissioner's statements will be available from the Office of the Secretary and at the Commission's Web site.

Authority: These reviews are being conducted under authority of title VII of the Tariff Act of 1930; this notice is published pursuant to section 207.62 of the Commission's rules.

By order of the Commission.
Issued: October 12, 2017.
Lisa R. Barton,
Secretary to the Commission.

[FR Doc. 2017-22522 Filed 10-17-17; 8:45 am]

BILLING CODE 7020-02-P